DEPARTMENT OF HEALTH AND HUMAN SERVICES

National Advisory Committee on Rural Health and Human Services

AGENCY: Health Resources and Services Administration (HRSA), Department of Health and Human Services (HHS).

ACTION: Notice of meeting.

SUMMARY: The Secretary's National Advisory Committee on Rural Health and Human Services (NACRHHS) has scheduled a public meeting. Information about NACRHHS and the agenda for this meeting can be found on the NACRHHS website at https://www.hrsa.gov/advisory-committees/rural-health/index.html.

DATES: September 10, 2018, 8:30 a.m.-5:15 p.m. ET; September 11, 2018, 8:30 a.m.-5:15 p.m. ET; September 12, 2018, 8:30 a.m.-11:15 a.m. ET.

ADDRESSES: On September 10, the address for the meeting is The Duke Endowment, 800 East Morehead Street, Charlotte, NC 28202.

On the morning of September 11, NACRHHS will break into subcommittees. One subcommittee will travel to Happy Valley Medical Center, 1345 NC Highway 268, Lenoir, NC 28645. The other subcommittee will travel to Winnsboro Smiles Dental Clinic, 124 N Congress Street, Winnsboro, SC 29180. In the afternoon, at approximately 4:00 p.m. ET., NACRHHS will reconvene at the AC Hotel Charlotte City Center, 220 E Trade Street, Charlotte, NC 28202.

On September 12, the address for the meeting is AC Hotel Charlotte City Center, 220 E Trade Street, Charlotte, NC 28202.

FOR FURTHER INFORMATION CONTACT: Steven Hirsch, Administrative Coordinator at the Federal Office of Rural Health Policy, HRSA, 5600 Fishers Lane, 17W59D, Rockville, Maryland 20857; 301-443-7322; or shirsch@hrsa.gov.

SUPPLEMENTARY INFORMATION: NACRHHS provides advice and recommendations to the Secretary of HHS (Secretary) on policy, program development, and other matters of significance concerning both rural health and rural human services.

During the September meetings, NACRHHS will discuss the issues of chronic obstructive pulmonary disease, one of the leading causes of mortality in rural areas, and the provision of oral health services in rural areas. Agenda items are subject to change as priorities dictate.

Members of the public will have the opportunity to provide comments. Public participants may submit written statements in advance of the scheduled meeting. Oral comments will be honored in the order they are requested and may be limited as time allows. Requests to submit a written statement or make oral comments to NACRHHS should be sent to Steven Hirsch, using the contact information above at least 3 business days prior to the meeting.

Individuals who plan to attend and need special assistance or another reasonable accommodation should notify Steven Hirsch at the address and phone number listed above at least 10 business days prior to the meeting.

Amy P. McNulty,
Acting Director, Division of the Executive Secretariat.

[FR Doc. 2018-17623 Filed 8-15-18; 8:45 am]

BILLING CODE 4165-15-P